DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Burnside, Kentucky
Docket No.: FEMA-B-1040
Kentucky | City of Burnside | Lake Cumberland | Entire shoreline | +749
* National Geodetic Vertical Datum.
+ North American Vertical Datum.
# Depth in feet above ground.
‸ Mean Sea Level, rounded to the nearest 0.1 meter.
ADDRESSES
City of Burnside
Maps are available for inspection at 7929 South Highway 27, Burnside, KY 42519.

Flooding source(s) | Location of referenced elevation | * Elevation in feet (NGVD) + Elevation in feet (NAVD) # Depth in feet above ground ‸ Elevation in meters (MSL) Modified | Communities affected
Clinton County, Kentucky, and Incorporated Areas
Docket No.: FEMA-B-1040
Cumberland River | Approximately 2,300 feet downstream of the confluence with Tearcoat Creek | +568 | Unincorporated Areas of Clinton County.
| Approximately 2,300 feet upstream of the confluence with Millers Creek | +571
Dale Hollow Lake (Wolf River) | At the confluence with the Wolf River | +663 | Unincorporated Areas of Clinton County.
| Approximately 1,800 feet upstream of the confluence with Spring Creek | +663
Lake Cumberland | Just upstream of the Wolf Creek Dam | +760 | Unincorporated Areas of Clinton County.
| At the confluence with Otter Creek | +760
* National Geodetic Vertical Datum.
+ North American Vertical Datum.
# Depth in feet above ground.
‸ Mean Sea Level, rounded to the nearest 0.1 meter.
ADDRESSES
Unincorporated Areas of Clinton County
Maps are available for inspection at 100 South Cross Street, Albany, KY 42602.
Jefferson Davis Parish, Louisiana, and Incorporated Areas
Docket No.: FEMA-B-1043
Lake Arthur | Entire shoreline (north to 7th Street from the eastern to the western border of the Town of Lake Arthur) | +8-10 | Town of Lake Arthur, Unincorporated Areas of Jefferson Davis Parish.
Lake Charles | Covering an area beginning at the southern border with Cameron Parish, proceeding north along the Calcasieu Parish border to West Niblett Road, to the east to State Route 99, then from State Route 99 below State Route 380 to the Town of Lake Charles border | +7-11 | Unincorporated Areas of Jefferson Davis Parish.
* National Geodetic Vertical Datum.
+ North American Vertical Datum.
# Depth in feet above ground.
‸ Mean Sea Level, rounded to the nearest 0.1 meter.
ADDRESSES
Town of Lake Arthur
Maps are available for inspection at 102 Arthur Avenue, Lake Arthur, LA 70549.
Unincorporated Areas of Jefferson Davis Parish
Maps are available for inspection at 304 North State Street, Jennings, LA 70546.
Tangipahoa Parish, Louisiana, and Incorporated Areas
Docket Nos.: FEMA-B-7765 and FEMA-B-1064
Ponchatoula Creek | Approximately 1,726 feet upstream of the confluence with Unnamed Tributary | +79 | Town of Independence.
| Approximately 1.92 mile upstream of the confluence with Unnamed Tributary | +87
Tangipahoa River | Approximately 1.18 mile upstream of the confluence with Big Creek | +118 | Town of Roseland.
| Approximately 1,809 feet downstream of I-10 | +126
Natalbany River | Approximately 2.5 mile upstream of State Route 40 | +97 | Town of Amite City, Unincorporated Areas of Tangipahoa Parish.
| Approximately 185 feet upstream of State Route 1048 | +183
Unnamed Tributary | Approximately 0.65 mile upstream of the confluence with Ponchatoula Creek | +79 | Town of Independence.
| Approximately 0.81 mile upstream of the confluence with Ponchatoula Creek | +80
* National Geodetic Vertical Datum.
+ North American Vertical Datum.
# Depth in feet above ground.
‸ Mean Sea Level, rounded to the nearest 0.1 meter.
ADDRESSES
Town of Amite City
Maps are available for inspection at 212 East Oak Street, Amite, LA 70422.
Town of Independence
Maps are available for inspection at P.O. Box 35, Independence, LA 70443.
Town of Roseland
Maps are available for inspection at 62438 Commercial Drive, Roseland, LA 70546.
Unincorporated Areas of Tangipahoa Parish
Maps are available for inspection at 15481 Club Deluxe Road, Hammond, LA 70403.
Marion County, Missouri, and Incorporated Areas
Docket No.: FEMA-B-1038
Bear Creek | Approximately 3,930 feet downstream of County Road 418 | +562 | Unincorporated Areas of Marion County.
| At U.S. Route 36 | +583
Minnow Branch | At Munger Lane | +589 | City of Hannibal, Unincorporated Areas of Marion County.
| At Veterans Road | +685
Mississippi River | Approximately 2.175 miles downstream of the confluence with Bear Creek | +476 | City of Hannibal, Unincorporated Areas of Marion County.
| At the confluence with Bear Creek | +477
| At U.S. Route 24 | +487
St. Clair Creek | Approximately 2,150 feet downstream of Veterans Road | +568 | City of Hannibal, Unincorporated Areas of Marion County.
| Approximately 400 feet upstream of Highway MM | +652
* National Geodetic Vertical Datum.
+ North American Vertical Datum.
# Depth in feet above ground.
‸ Mean Sea Level, rounded to the nearest 0.1 meter.
ADDRESSES
City of Hannibal
Maps are available for inspection at 320 Broadway, Hannibal, MO 63401.
Unincorporated Areas of Marion County
Maps are available for inspection at 100 South Main Street, Palmyra, MO 63461.
Custer County, Montana, and Incorporated Areas
Docket No.: FEMA-B-1020
Tongue River | Approximately 1,605 feet upstream of the confluence with the Yellowstone River | +2359 | City of Miles City, Unincorporated Areas of Custer County.
| Approximately 5,315 feet upstream of I-94 | +2375
Tongue River Split 1 | Approximately 1,450 feet upstream of the confluence with the Yellowstone River | +2353 | City of Miles City, Unincorporated Areas of Custer County.
| Approximately 2,430 feet upstream of 4th Street | +2358
Tongue River Split 2A | Approximately 2,135 feet upstream of the confluence with the Yellowstone River | +2348 | City of Miles City, Unincorporated Areas of Custer County.
| Approximately 185 feet upstream of Montana Avenue | +2358
Tongue River Split 2B | Just downstream of the intersection of Palmer Street and 9th Street | +2359 | City of Miles City.
| Approximately 705 feet upstream of Pleasant Street | +2360
Tongue River Split 2C | Approximately 380 feet upstream of Palmer Street | +2359 | City of Miles City.
| Approximately 1,145 feet upstream of Pacific Avenue | +2363
Tongue River Split 3A | Approximately 300 feet upstream of the confluence with Tongue River Split 2A | +2346 | City of Miles City, Unincorporated Areas of Custer County.
| Approximately 290 feet upstream of Leighton Street | +2358
Tongue River Split 3B | Just downstream of Pleasant Street | +2360 | City of Miles City, Unincorporated Areas of Custer County.
| Approximately 75 feet upstream of 4th Avenue | +2365
Tongue River Split 3C | Approximately 130 feet downstream of Palmer Street | +2358 | City of Miles City, Unincorporated Areas of Custer County.
| Approximately 1,465 feet upstream of Balsam Drive | +2368
Yellowstone River | Approximately 22,675 feet downstream of State Highway 59 | +2336 | City of Miles City, Unincorporated Areas of Custer County.
| Approximately 11,500 feet upstream of State Highway 59 | +2363
* National Geodetic Vertical Datum.
+ North American Vertical Datum.
# Depth in feet above ground.
‸ Mean Sea Level, rounded to the nearest 0.1 meter.
ADDRESSES
City of Miles City
Maps are available for inspection at 17 South 8th Street, Miles City, MT 59301.
Unincorporated Areas of Custer County
Maps are available for inspection at 1010 Main Street, Miles City, MT 59301.
Fergus County, Montana, and Incorporated Areas
Docket No.: FEMA-B-1050
Flood Channel | Approximately 70 feet upstream of the Main Street Bridge | +3610 | Town of Denton.
| Approximately 50 feet upstream of the Railroad Bridge | +3614
Shallow Flooding | At the intersection of Bain Street and Main Street | #1 | Town of Denton.
* National Geodetic Vertical Datum.
+ North American Vertical Datum.
# Depth in feet above ground.
‸ Mean Sea Level, rounded to the nearest 0.1 meter.
ADDRESSES
Town of Denton
Maps are available for inspection at 305 West Watson Street, Lewistown, MT 59457.
Ross County, Ohio, and Incorporated Areas
Docket No.: FEMA-B-1043
Kinnikinnick Creek | Approximately 1,850 feet upstream of the confluence with the Scioto River | +645 | Unincorporated Areas of Ross County.
| Approximately 11,050 feet upstream of the confluence with the Scioto River | +666
* National Geodetic Vertical Datum.
+ North American Vertical Datum.
# Depth in feet above ground.
‸ Mean Sea Level, rounded to the nearest 0.1 meter.
ADDRESSES
Unincorporated Areas of Ross County
Maps are available for inspection at 15 North Paint Street, Chillicothe, OH 45601.
Tuscarawas County, Ohio, and Incorporated Areas
Docket No.: FEMA-B-1050
Beggar Run (Backwater from Tuscarawas River) | At the confluence with Conotton Creek | +909 | Unincorporated Areas of Tuscarawas County.
| Approximately 0.78 mile upstream of the confluence with Conotton Creek | +909
Browns Run (Backwater from Tuscarawas River) | At the confluence with Conotton Creek | +909 | Unincorporated Areas of Tuscarawas County.
| Just downstream of Henderson School Road | +909
Conotton Creek (Backwater from Tuscarawas River) | At the confluence with the Tuscarawas River | +909 | Unincorporated Areas of Tuscarawas County.
| Approximately 0.76 mile upstream of Miller Hill Road (Carroll County boundary) | +909
Dog Run (Backwater from Tuscarawas River) | At the confluence with Conotton Creek | +909 | Unincorporated Areas of Tuscarawas County.
| Approximately 0.42 mile upstream of Norfolk and Western Railway | +909
Huff Run (Backwater from Tuscarawas River) | At the confluence with Conotton Creek | +909 | Unincorporated Areas of Tuscarawas County, Village of Mineral City.
| Approximately 1.38 mile upstream of New Cumberland Road | +909
Indian Fork (Backwater from Tuscarawas River) | At the confluence with Conotton Creek | +909 | Unincorporated Areas of Tuscarawas County.
| Just downstream of State Route 212 | +909
Middle Run (Backwater from Tuscarawas River) | At the confluence with the Tuscarawas River | +909 | Unincorporated Areas of Tuscarawas County.
| Approximately 0.72 mile upstream of Dover-Zoar Road | +909
Small Middle Run (Backwater from Tuscarawas River) | At the confluence with the Tuscarawas River | +909 | Unincorporated Areas of Tuscarawas County.
| Approximately 500 feet downstream of Dover-Zoar Road | +909
Stillwater Creek | Just downstream of Baltimore and Ohio Railroad | +844 | City of Midvale.
| Approximately 0.45 mile upstream of U.S. Route 250 | +845
Tuscarawas River | Approximately 1,000 feet upstream of the confluence with Clewell Run | +831 | Village of Gnadenhutten.
Tuscarawas River | Approximately 0.66 mile downstream of Tuscarawas Road | +838 | Village of Tuscarawas.
Tuscarawas River | Just upstream of the Dover Dam | +909 | Unincorporated Areas of Tuscarawas County, Village of Bolivar, Village of Zoar.
| Approximately 2.18 miles upstream of State Route 212 (Stark County boundary) | +909
Wolf Run (Backwater from Tuscarawas River) | At the confluence with the Tuscarawas River | +909 | Unincorporated Areas of Tuscarawas County.
| Approximately 0.89 mile upstream of Norfolk and Western Railway | +909
* National Geodetic Vertical Datum.
+ North American Vertical Datum.
# Depth in feet above ground.
‸ Mean Sea Level, rounded to the nearest 0.1 meter.
ADDRESSES
City of Midvale
Maps are available for inspection at City Hall, 311 Barnhill Road, Midvale, OH 44653.
Unincorporated Areas of Tuscarawas County
Maps are available for inspection at the Tuscarawas County Administrative Offices, 125 East High Avenue, New Philadelphia, OH 44663.
Village of Bolivar
Maps are available for inspection at the Village Hall, 109 Canal Street Northwest, Bolivar, OH 44612.
Village of Gnadenhutten
Maps are available for inspection at the Village Hall, 131 South Walnut Street, Gnadenhutten, OH 44629.
Village of Mineral City
Maps are available for inspection at the Village Hall, 8728 North High Street, Mineral City, OH 44656.
Village of Tuscarawas
Maps are available for inspection at the Village Hall, 522 East Cherry Street, Tuscarawas, OH 44682.
Village of Zoar
Maps are available for inspection at the Tuscarawas County Administrative Offices, 125 East High Avenue, New Philadelphia, OH 44663.
Pittsburg County, Oklahoma, and Incorporated Areas
Docket No.: FEMA-B-1034
Tributary AA | Approximately 2,790 feet downstream of 14th Street | +715 | City of McAlester.
| Approximately 2,160 feet downstream of 14th Street | +724
Tributary B | Approximately 470 feet downstream of C Street | +686 | City of McAlester, Unincorporated Areas of Pittsburg County.
| Approximately 1,700 feet upstream of Swallow Drive | +728
Tributary E | Approximately 1,200 feet upstream of Highway 270 | +654 | Unincorporated Areas of Pittsburg County.
| Approximately 5,000 feet upstream of Highway 270 | +658
* National Geodetic Vertical Datum.
+ North American Vertical Datum.
# Depth in feet above ground.
‸ Mean Sea Level, rounded to the nearest 0.1 meter.
ADDRESSES
City of McAlester
Maps are available for inspection at 28 East Washington Street, McAlester, OK 74502.
Unincorporated Areas of Pittsburg County
Maps are available for inspection at 115 East Carl Albert Parkway, McAlester, OK 74501.
Sanborn County, South Dakota, and Incorporated Areas
Docket No.: FEMA-B-1049
James River | Approximately 2,133 feet downstream of 243rd Street | +1226 | Unincorporated Areas of Sanborn County.
| Approximately 1,162 feet upstream of 221st Street | +1237
* National Geodetic Vertical Datum.
+ North American Vertical Datum.
# Depth in feet above ground.
‸ Mean Sea Level, rounded to the nearest 0.1 meter.
ADDRESSES
Unincorporated Areas of Sanborn County
Maps are available for inspection at 604 West 6th Street, Woonsocket, SD 57385.
Val Verde County, Texas, and Incorporated Areas
Docket No.: FEMA-B-1049
Calveras Creek | At the confluence with San Felipe Creek | +924 | Unincorporated Areas of Val Verde County.
| Approximately 0.6 mile upstream of Gilberto Road | +1015
Cantu Branch | Just upstream of Dodson Avenue | +1035 | Unincorporated Areas of Val Verde County.
| Approximately 1,222 feet upstream of Grace Drive | +1046
San Felipe Creek | Just upstream of Gilchrist Lane | +911 | Unincorporated Areas of Val Verde County.
| Just upstream of River Road | +929
* National Geodetic Vertical Datum.
+ North American Vertical Datum.
# Depth in feet above ground.
‸ Mean Sea Level, rounded to the nearest 0.1 meter.
ADDRESSES
Unincorporated Areas of Val Verde County
Maps are available for inspection at the Del Rio City Hall, 109 West Broadway Street, Del Rio, TX 78840.
Marathon County, Wisconsin, and Incorporated Areas
Docket No.: FEMA-B-1022
Bull Junior Creek | At the mouth of the Wisconsin River | +1147 | City of Mosinee.
| Approximately 450 feet downstream of U.S. Route 51 | +1149
Eau Claire River | At the Brooks and Ross Dam | +1168 | City of Schofield, City of Wausau.
| Approximately 1.1 mile upstream of the Brooks and Ross Dam | +1169
Wisconsin River | Just upstream of the dam in the City of Mosinee | +1147 | City of Mosinee, Unincorporated Areas of Marathon County, Village of Kronenwetter, Village of Rothschild.
| Just downstream of the Rothschild Dam | +1159
* National Geodetic Vertical Datum.
+ North American Vertical Datum.
# Depth in feet above ground.
‸ Mean Sea Level, rounded to the nearest 0.1 meter.
ADDRESSES
City of Mosinee
Maps are available for inspection at City Hall, 225 Main Street, Mosinee, WI 54455.
City of Schofield
Maps are available for inspection at the Public Works/Building Inspection Department, 200 Park Street, Schofield, WI 54476.
City of Wausau
Maps are available for inspection at the Inspections Department, 407 Grant Street, Wausau, WI 54403.
Unincorporated Areas of Marathon County
Maps are available for inspection at the Marathon County Conservation, Planning, and Zoning Office, 210 River Drive, Wausau, WI 54403.
Village of Kronenwetter
Maps are available for inspection at the Municipal Center, 1582 Kronenwetter Drive, Kronenwetter, WI 54455.
Village of Rothschild
Maps are available for inspection at the Village Hall, 211 Grand Avenue, Rothschild, WI 54470.
Outagamie County, Wisconsin, and Incorporated Areas
Docket No.: FEMA-B-1045
AAL Tributary | At the confluence with Apple Creek | +742 | City of Appleton.
| Approximately 410 feet upstream of North Lightning Drive | +746
Apple Creek | Approximately 0.92 mile upstream of Garrity Road | +646 | City of Appleton, Unincorporated Areas of Outagamie County, Village of Little Chute.
| Approximately 0.33 mile upstream of U.S. Route 41 | +774
Apple Creek North | At the confluence with Apple Creek | +729 | City of Appleton, Unincorporated Areas of Outagamie County.
| Approximately 90 feet upstream of County Highway E | +780
Apple Creek North Overland Flow | At the confluence with Apple Creek | +737 | City of Appleton, Unincorporated Areas of Outagamie County.
| At the divergence from Apple Creek North | +744
Apple Creek Northeast | At the confluence with Apple Creek | +721 | City of Appleton, Unincorporated Areas of Outagamie County.
| Approximately 0.35 mile upstream of Lanser Lane | +761
Apple Creek Overland Flow | At the confluence with Apple Creek | +757 | City of Appleton.
| Approximately 0.23 mile above the confluence with Apple Creek | +767
County Highway JJ Swale | At the confluence with Apple Creek | +729 | Unincorporated Areas of Outagamie County.
| Approximately 920 feet upstream of the confluence with Apple Creek | +730
Fox River | Approximately 0.27 mile downstream of the Rapids Croche Dam | +603 | Unincorporated Areas of Outagamie County.
| Approximately 0.87 mile downstream of the Thilmany Dam | +610
Fox River | Approximately 0.56 mile upstream of State Highway 441 | +703 | City of Appleton, Unincorporated Areas of Outagamie County.
| Approximately 200 feet downstream of the Appleton Upper Dam | +728
French Road Overland Flow | At the confluence with French Road Swale | +738 | City of Appleton.
| Approximately 960 feet above the confluence with French Road Swale | +743
French Road Swale | At the confluence with Apple Creek | +733 | City of Appleton.
| At the divergence from Apple Creek North | +747
Garners Creek | At the confluence with the Fox River | +660 | City of Appleton, Unincorporated Areas of Outagamie County, Village of Combined Locks, Village of Kimberly, Village of Little Chute.
| Approximately 0.28 mile upstream of Stoney Brook Road | +773
Garners Creek Tributary 1 | At the confluence with Garners Creek | +666 | Unincorporated Areas of Outagamie County, Village of Combined Locks.
| Approximately 1.28 mile upstream of Block Road | +747
Garners Creek Tributary 2 | At the confluence with Garners Creek | +698 | Unincorporated Areas of Outagamie County.
| Approximately 30 feet upstream of Greenspire Way | +748
Garners Creek Tributary 3 | At the confluence with Garners Creek | +711 | Unincorporated Areas of Outagamie County.
| Approximately 401 feet upstream of Fenceline Drive | +757
Garners Creek Tributary 3.1 | At the confluence with Garners Creek Tributary 3 | +733 | Unincorporated Areas of Outagamie County.
| Approximately 0.20 mile upstream of the confluence with Garners Creek Tributary 3 | +740
Garners Creek Tributary 4 | At the confluence with Garners Creek | +753 | City of Appleton, Unincorporated Areas of Outagamie County.
| Approximately 50 feet downstream of State Highway 441 | +753
Glory Lane Swale | At the confluence with Apple Creek | +733 | City of Appleton.
| Approximately 120 feet south of Glory Lane | +734
Mud Creek | Approximately 1.33 miles downstream of West Spencer Street | +744 | Unincorporated Areas of Outagamie County.
| Approximately 170 feet downstream of North Mayflower Drive | +837
Mud Creek Tributary 3.2 | At the confluence with Mud Creek Tributary 3 | +774 | Unincorporated Areas of Outagamie County.
| Approximately 0.51 mile upstream of Elsner Road | +805
Mud Creek Tributary 3.3 | At the confluence with Mud Creek Tributary 3 | +774 | Unincorporated Areas of Outagamie County.
| Approximately 500 feet upstream of State Highway 15 | +846
Mud Creek Tributary 3.3.2 | At the confluence with Mud Creek Tributary 3.3 | +791 | Unincorporated Areas of Outagamie County.
| Approximately 100 feet downstream of County Highway JJ | +800
Mud Creek Tributary 3.3.3 | Approximately 370 feet downstream of Barley Way | +797 | Unincorporated Areas of Outagamie County.
| Approximately 150 feet downstream of County Highway JJ | +800
Wolf River | Approximately 1.19 mile downstream of U.S. Route 45 | +761 | City of New London.
| Approximately 1.13 mile downstream of U.S. Route 45 | +761
* National Geodetic Vertical Datum.
+ North American Vertical Datum.
# Depth in feet above ground.
‸ Mean Sea Level, rounded to the nearest 0.1 meter.
ADDRESSES
City of Appleton
Maps are available for inspection at 100 North Appleton Street, Appleton, WI 54911.
City of New London
Maps are available for inspection at 405 West Wolf River Avenue, New London, WI 54961.
Unincorporated Areas of Outagamie County
Maps are available for inspection at 410 South Walnut Street, Appleton, WI 54911.
Village of Combined Locks
Maps are available for inspection at 405 Wallace Street, Combined Locks, WI 54113.
Village of Kimberly
Maps are available for inspection at 515 West Kimberly Avenue, Kimberly, WI 54136.
Village of Little Chute
Maps are available for inspection at 108 West Main Street, Little Chute, WI 54140.

(Catalog of Federal Domestic Assistance No. 97.022, “Flood Insurance.”)

Dated: April 27, 2010.
Sandra K. Knight,
Deputy Federal Insurance and Mitigation Administrator, Mitigation, Department of Homeland Security, Federal Emergency Management Agency.

[FR Doc. 2010-10345 Filed 5-3-10; 8:45 am]

BILLING CODE 9110-12-P